DEPARTMENT OF TRANSPORTATION

Surface Transportation Board

[STB Finance Docket No. 34743]

BNSF Railway Company—Temporary Trackage Rights Exemption—Union Pacific Railroad Company

Union Pacific Railroad Company (UP), pursuant to a written trackage rights agreement entered into between UP and the BNSF Railway Company (BNSF), has agreed to grant temporary overhead trackage rights to BNSF over UP's rail line between Valley Junction, IL, UP milepost 0.00, and Rockview Junction, MO, UP milepost 131.3, a distance of approximately 131.3 miles.

The transaction was scheduled to be consummated on August 15, 2005, and the temporary trackage rights will expire on October 16, 2005. The purpose of the temporary trackage rights is to allow BNSF to bridge a limited number of its trains while its main lines are out of service due to programmed track, roadbed, and structural maintenance.

As a condition to this exemption, any employee affected by the acquisition of the temporary trackage rights will be protected by the conditions imposed in Norfolk and Western Ry. Co.—Trackage Rights—BN, 354 I.C.C. 605 (1978), as modified in Mendocino Coast Ry., Inc.—Lease and Operate, 360 I.C.C. 653 (1980), and any employee affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction.

An original and 10 copies of all pleadings, referring to STB Finance Docket No. 34743, must be filed with the Surface Transportation Board, 1925 K Street, NW., Washington, DC 20423-0001. In addition, a copy of each pleading must be served on Michael E. Roper, Senior General Attorney, BNSF Railway Company, P. O. Box 961039, Fort Worth, TX 76161-0039.

Board decisions and notices are available on our Web site at http://www.stb.dot.gov.

Decided: August 22, 2005.
By the Board, David M. Konschnik, Director, Office of Proceedings.
Vernon A. Williams,
Secretary.

[FR Doc. 05-17025 Filed 8-25-05; 8:45 am]

BILLING CODE 4915-01-P